DEPARTMENT OF JUSTICE

Antitrust Division

Notice Pursuant to the National Cooperative Research and Production Act of 1993—Traffic Audit Bureau for Media Measurement, Inc.

Notice is hereby given that, on July 7, 2005, pursuant to Section 6(a) of the National Cooperative Research and Production Act of 1993, 15 U.S.C. 4301 et seq. (“the Act”), Traffic Audit Bureau for Media Measurement, Inc. (“TAB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Traffic Audit Bureau for Media Measurement, Inc., New York, NY. The nature and scope of TAB's standards development activities are: to establish standard practices with respect to the measurement and evaluation of all out-of-home media advertising to the extent that such practices are technically valid and financially feasible; to supervise and direct practices in connection with the collection, recording, authentication and verification of traffic and other relevant data related to out-of-home media advertising; to prepare and disseminate standardized factual statements setting forth the circulation value and/or proof of performance of out-of-home media advertising; and to perform such other acts and services as will further the interests of advertisers, advertising agencies, operators of out-of-home media plants and all other interested in information having to do with the out-of-home media industry.

Dorothy B. Fountain,
Deputy Director of Operations Antitrust Division.

[FR Doc. 05-15113 Filed 7-29-05; 8:45 am]

BILLING CODE 4410-11-M